NATIONAL CREDIT UNION ADMINISTRATION

Agency Information Collection Activities: Submission to OMB for Review; Comment Request

AGENCY: National Credit Union Administration (NCUA).

ACTION: Request for comment.

SUMMARY: The NCUA is resubmitting the following information collection to the Office of Management and Budget (OMB) for review and clearance under the Paperwork Reduction Act of 1995 (Pub. L. 104-13, 44 U.S.C. Chapter 35). This information collection is published to obtain comments from the public.

DATES: Comments will be accepted until April 3, 2006.

ADDRESSES: Interested parties are invited to submit written comments to NCUA Clearance Officer listed below:

Clearance Officer: Mr. Neil McNamara, National Credit Union Administration, 1775 Duke Street, Alexandria, VA 22314-3428, Fax No. 703-837-2861, E-mail: mcnamara@ncua.gov.

FOR FURTHER INFORMATION CONTACT: Requests for additional information or a copy of the information collection request, should be directed to Tracy Sumpter at the National Credit Union Administration, 1775 Duke Street, Alexandria, VA 22314-3428, or at (703) 518-6444.

SUPPLEMENTARY INFORMATION: Proposal for the following collection of information:

OMB Number: 3133-0032.

Form Number: N/A.

Type of Review: Extension of a currently approved collection.

Title: Records Preservation Under 12 CFR Part 749.

Description: Part 749 of NCUA Regulations directs each credit union to store copies of their members' share and loan balances away from the credit union's premises and maintain a log about the stored information.

Respondents: All credit unions.

Estimated No. of Respondents/Record keepers: 9,128.

Estimated Burden Hours per Response: 2 hours.

Frequency of Response: Quarterly.

Estimated Total Annual Burden Hours: 18,256.

Estimated Total Annual Cost: $912,800.

By the National Credit Union Administration Board on January 23, 2006.
Mary Rupp,
Secretary of the Board.

[FR Doc. E6-1169 Filed 1-30-06; 8:45 am]

BILLING CODE 7535-01-P